DEPARTMENT OF TRANSPORTATION

Federal Highway Administration

Notice of Final Federal Agency Actions on Sterling Highway Milepost 45 to 60 Project in Alaska

AGENCY: Federal Highway Administration (FHWA), DOT.

ACTION: Notice of limitation of claims for judicial review of actions by FHWA and other Federal agencies.

SUMMARY: This notice announces actions taken by FWHA that are final. The actions relate to the proposed Sterling Highway Milepost 45-60 Project in the Kenai Peninsula Borough in the State of Alaska. Those actions grant approvals for the project.

DATES: By this notice, FHWA is advising the public of final agency actions subject to 23 U.S.C. 139(l). A claim seeking judicial review of FHWA actions on the highway project will be barred unless the claim is filed on or before November 5, 2018. If the Federal law that authorizes judicial review of a claim provides a time period of less than 150 days for filing such claim, then that shorter time period applies.

FOR FURTHER INFORMATION CONTACT: John Lohrey, Planner, Federal Highway Administration, Alaska Division, 709 West 9th Street, Room 851, Juneau, AK 99802, telephone (907) 586-7418; email: John.Lohrey@dot.gov. The FHWA Alaska Division Office's normal business hours are 8:00 a.m. to 5:00 p.m. (Alaska Time), Monday through Friday, except Federal holidays. You may also contact Kelly Summers, P.E., Project Manager, Alaska Department of Transportation and Public Facilities, Central Region, P.O. Box 196900, Anchorage, AK 99519-6900, telephone (907) 465-0542; email: Kelly.Summers@alaska.gov. The DOT&PF Central Region's normal business hours are 8:00 a.m. to 4:30 p.m. (Alaska Time), Monday through Friday, except State and Federal holidays.

SUPPLEMENTARY INFORMATION: Notice is hereby given that FHWA has taken final agency action subject to 23 U.S.C. 139(l) by issuing approvals for the Sterling Highway Milepost 45 to 60 Project in the State of Alaska, project number F-021-2(15)/53014. The selected route is the Juneau Creek Alternative. The route passes north of the community of Cooper Landing and remains north of the Kenai River throughout. From Quartz Creek Road near MP 45, the alternative will result in reconstruction of the existing Sterling Highway for approximately two miles, will diverge and will result in a newly constructed highway for approximately 10 miles (with a new bridge over Juneau Creek Canyon), and will join and reconstruct the existing alignment again for approximately 2.5 miles to an intersection with Skilak Loop Rd. near MP 58.

The actions by the Federal agencies, and the law under which such actions were taken, are described in the Final Environmental Impact Statement and Final Section 4(f) Evaluation (Final EIS) for the project, approved March 7, 2018, and in the FHWA Record of Decision (ROD) issued on May 31, 2018. The Final EIS and ROD approved by FHWA are available on the project website: http://sterlinghighway.net and may be viewed at the FHWA and DOT&PF addresses provided above.

This Notice applies to all Federal Agency decisions as of the issuance date of this notice and to all laws under which such actions were taken, including but not limited to:

1. General: National Environmental Policy Act (NEPA) [42 U.S.C. 4321-4335]; Federal-Aid Highway Act [23 U.S.C. 109 and 23 U.S.C. 128]; Alaska National Interest Lands Conservation Act of 1980 (ANILCA) [16 U.S.C. 3164].

2. Air: Clean Air Act [42 U.S.C. 7401-7671(q)].

3. Land: Section 4(f) of the Department of Transportation Act of 1966, as amended [49 U.S.C. 303]; ANILCA Title XI (Conservation System Units) [16 U.S.C. Ch. 58, Subchapter IV, Section 3161 et seq]; National Wildlife Refuge System Administration Act [16 U.S.C. 668dd].

4. Fish and Wildlife: Endangered Species Act [16 U.S.C. 1531-1544]; Fish and Wildlife Coordination Act [16 U.S.C. 661-667(d)]; Migratory Bird Treaty Act [16 U.S.C. 703-712]; Bald and Golden Eagle Protection Act [16 U.S.C. 668-668d]; Magnuson-Steven Fishery Conservation and Management Act/Sustainable Fisheries Act [16 U.S.C. 1801 et seq.].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Graves Protection and Repatriation Act (NAGPRA) [25 U.S.C. 3001-3013].

6. Social and Economic: Civil Rights Act of 1964 [42 U.S.C. 2000(d)-2000(d)(1)]; American Indian Religious Freedom Act [42 U.S.C. 1996]; ANILCA Title VIII, Section 810 (Subsistence) [16 U.S.C. 3120; Uniform Relocation and Real Property Acquisition Act [42 U.S.C 4601 et seq].

7. Wetlands and Water Resources: Safe Drinking Water Act [42 U.S.C. 300(f)-300(j)(6)]; Emergency Wetlands Resources Act, [16 U.S.C. 3921, 3931]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13112 Invasive Species; E.O. 13168 Responsibilities of Federal Agencies to Protect Migratory Birds.

Authority: 23 U.S.C. 139(l)

Issued on: June 1, 2018.
Sandra A. Garcia-Aline,
Federal Highway Administration, Alaska Division Administrator, Juneau.

[FR Doc. 2018-12342 Filed 6-7-18; 8:45 am]

BILLING CODE 4910-RY-P